DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons whose property and interests in property have been unblocked and who have been removed from the Specially Designated Nationals and Blocked Persons List (SDN List). Additionally, OFAC is publishing updates to the identifying information of one person currently included on the SDN List.

DATES: See SUPPLEMENTARY INFORMATION section for applicable date(s).

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://ofac.treasury.gov).

Notice of OFAC Actions

A. On June 29, 2023, OFAC determined that the property and interests in property subject to U.S. jurisdiction of the following persons are unblocked and they have been removed from the SDN List.

Individuals

1. VILLA DE CIFUENTES, Carlina, c/o FUNDACION OKCOFFEE COLOMBIA, Bogota, Colombia; c/o FUNDACION PARA EL BIENESTAR Y EL PORVENIR, Medellin, Colombia; c/o ROBLE DE MINAS S.A., Medellin, Colombia; Calle 7D No. 43C-95, Medellin, Colombia; Calle 18B Sur No. 36-35 Apto. 603, Medellin, Colombia; Carrera 41 No. 6B Sur-9, Medellin, Colombia; DOB 30 Aug 1934; POB Yolombo, Antioquia, Colombia; Cedula No. 21342467 (Colombia) (individual) [SDNTK].

2. GIRALDO VELASCO, Hector Fabio, c/o CRIADERO SANTA GERTRUDIS S.A., Jamundi, Valle, Colombia; DOB 17 Mar 1965; Cedula No. 16711573 (Colombia) (individual) [SDNT].

3. CIFUENTES VILLA, Hildebrando Alexander (a.k.a. CIFUENTES VILLA, Alex), c/o ROBLE DE MINAS S.A., Medellin, Colombia; Calle 16C Sur No. 42-70, Medellin, Colombia; DOB 18 Jan 1968; POB Medellin, Colombia; Cedula No. 71695565 (Colombia); C.U.R.P. CIVH680118HNEFLL07 (Mexico) (individual) [SDNTK].

Entities

1. FUNDACION OKCOFFEE COLOMBIA; NIT # 900311507-1 (Colombia) [SDNTK].

2. FUNDACION PARA EL BIENESTAR Y EL PORVENIR (a.k.a. FUNPORVENIR), Calle 6 No. 32-39, Medellin, Colombia; NIT # 900310323-9 (Colombia) [SDNTK].

3. CRIADERO SANTA GERTRUDIS S.A., Callejon Zapatoca Km. 1 Via Jamundi, Jamundi, Valle, Colombia; NIT # 805014721-3 (Colombia) [SDNT].

4. ROBLE DE MINAS S.A.S. (f.k.a. ROBLE DE MINAS S.A.), Calle 18B Sur No. 36-35 Apto. 1603, Medellin, Colombia; Calle 75 Carrera 77E, Medellin, Colombia; NIT # 811043722-6 (Colombia) [SDNTK].

5. ALMACEN BATUL (a.k.a. “BODEGA CAMPEON”), Calle 10A, No. 11A-41/45, Maicao, La Guajira, Colombia; NIT # 639000204-4 (Colombia); Matricula Mercantil No 36817 (Colombia) [SDNTK].

6. COMERCIAL ESTILO Y MODA, Calle 10A, No. 11A-41/45, Maicao, La Guajira, Colombia; NIT # 639000204-4 (Colombia) [SDNTK].

B. On June 29, 2023, OFAC updated the entry on the SDN List for the following person, whose property and interest in property subject to U.S. jurisdiction continue to be blocked pursuant to Executive Order 13224 of September 23, 2001, “Blocking Property and Prohibiting Transactions With Persons Who Commit, Threaten to Commit, or Support Terrorism.”

Individual

1. SALEH, Ali Mohamad (a.k.a. SALAH, Ali Mohammad; a.k.a. SALEH, Ali Mohamed; a.k.a. SALEH, Ali Mohammad; a.k.a. SALIH, Ali Abd-Al-Amir Muhammad; a.k.a. SALIH, Ali Muhammad; a.k.a. SALIH, Ali Muhammad Abd-Al-Amir); DOB 01 Jan 1974; POB Adchit, Lebanon; Additional Sanctions Information—Subject to Secondary Sanctions Pursuant to the Hizballah Financial Sanctions Regulations; Cedula No. 1124006380 (Colombia); Passport AJ911608 (Colombia); alt. Passport 2071362 (Lebanon); alt. Passport 1183967 (Lebanon) (individual) [SDNTK] [SDGT] (Linked To: ALMACEN BATUL; Linked To: COMERCIAL ESTILO Y MODA).

—to—

SALEH, Ali Mohamad (a.k.a. SALAH, Ali Mohammad; a.k.a. SALEH, Ali Mohamed; a.k.a. SALEH, Ali Mohammad; a.k.a. SALIH, Ali Abd-Al-Amir Muhammad; a.k.a. SALIH, Ali Muhammad; a.k.a. SALIH, Ali Muhammad Abd-Al-Amir); DOB 01 Jan 1974; POB Adchit, Lebanon; Additional Sanctions Information—Subject to Secondary Sanctions Pursuant to the Hizballah Financial Sanctions Regulations; Cedula No. 1124006380 (Colombia); Passport AJ911608 (Colombia); alt. Passport 2071362 (Lebanon); alt. Passport 1183967 (Lebanon) (individual) [SDGT].

Signed: June 30, 2023.
Gregory T. Gatjanis,
Associate Director, Office of Foreign Assets Control, U.S. Department of the Treasury.

[FR Doc. 2023-14319 Filed 7-6-23; 8:45 am]

BILLING CODE 4810-AL-P